DEPARTMENT OF DEFENSE

Department of the Navy

Notice of Fiscal Year 2024 Performance Review Board Membership

AGENCY: Department of the Navy (DoN), Department of Defense (DoD).

ACTION: Notice.

SUMMARY: The Department of the Navy (DoN) announces the appointment of members to the DON Senior Executive Service (SES), Senior Level (SL), and Scientific and Professional (ST) Fiscal Year 2024 Performance Review Board (PRB). The purpose of the PRB is to provide fair and impartial review of the annual SES performance appraisal prepared by the senior executive's immediate and second level supervisor; to make recommendations to appointing officials regarding acceptance or modification of the performance rating; and to make recommendations for performance-based bonuses and performance-based pay increases.

FOR FURTHER INFORMATION CONTACT: Kim Hanson, Director, Executive Management Program Office, Manpower and Reserve Affairs at 703-693-8896 or kim.t.hanson.civ@us.navy.mil.

SUPPLEMENTARY INFORMATION: Composition of the specific PRB is provided below:

Ms. E. Anne Sandel

Dr. Brett Seidle

Ms. Lisa St. Andre

Mr. Steven Parode

Dr. Bruce Danly

Mr. Thomas Rudowsky

Mr. Christopher Miller

Ms. Jennifer LaTorre

Ms. Deline Reardon

Ms. Catherine Kessmeier

Ms. Kate DeMane (HLR)

Ms. Jennifer Edgin (HLR)

Mr. Robert Hogue (Chair)

(Authority: 5 U.S.C. 4314(c)(4))

Dated: October 29, 2024.
A.J. Gioiello,
Lieutenant Commander, Judge Advocate General's Corps, U.S. Navy, Federal Register Liaison Officer.

[FR Doc. 2024-25520 Filed 11-1-24; 8:45 am]

BILLING CODE 3810-FF-P